NATIONAL SCIENCE FOUNDATION

Committee Management; Notice of Establishment

The Deputy Director of the National Science Foundation has determined that the establishment of the Advisory Committee for Cyberinfrastructure is necessary and in the public interest in connection with the performance of duties imposed upon the National Science Foundation (NSF), by 42 USC 1861 et seq. This determination follows consultation with the Committee Management Secretariat, General Services Administration.

Name of Committee: Advisory Committee for Cyberinfrastructure.

Nature/Purpose: The Advisory Committee will be strictly advisory and will prepare a report to the National Science Foundation concerning the broad topic of advanced cyberinfrastructure and the existing Partnerships for Advanced Computational Infrastructure.

Responsible NSF Official: Dr. Ruzena Bajcsy, Assistant Director, Directorate for Computer and Information Science and Engineering, National Science Foundation, 4201 Wilson Boulevard, Suite 1105, Arlington, VA 22230. Telephone: (703) 292-8900.

Dated: February 14, 2001.
Susanne Bolton,
Committee Management Officer.

[FR Doc. 01-4159 Filed 2-20-01; 8:45 am]

BILLING CODE 7555-01-M